DEPARTMENT OF COMMERCE

National Telecommunications and Information Administration

[Docket No. 200521-0144]

RIN 0660-XC047

The National Strategy To Secure 5G Implementation Plan

AGENCY: National Telecommunications and Information Administration, U.S. Department of Commerce.

ACTION: Notice; Extension of Comment Period.

SUMMARY: On May 28, 2020, the National Telecommunications and Information Administration (NTIA), on behalf of the Executive Branch, published a Notice seeking comments in accordance with the Secure 5G and Beyond Act of 2020 to inform the development of an Implementation Plan for the National Strategy to Secure 5G. Through this Notice, NTIA is extending the comment deadline by seven days from June 18, 2020, to June 25, 2020.

DATES: Comments must be received on or before June 25, 2020.

ADDRESSES: Written comments may be submitted by email to secure5G@ntia.gov. Comments submitted by email should be machine-searchable and should not be copy-protected. Written comments also may be submitted by mail to the National Telecommunications and Information Administration, U.S. Department of Commerce, 1401 Constitution Avenue, NW, Room 4725, Attn: Secure 5G RFC, Washington, DC 20230. Responders should include the name of the person or organization filing the comment, as well as a page number, on each page of their submissions. All comments received are a part of the public record and will generally be posted to http://www.ntia.doc.gov/ without change. All personal identifying information (e.g., name, address) voluntarily submitted by the commenter may be publicly accessible. Do not submit Confidential Business Information or otherwise sensitive or protected information. NTIA will also accept anonymous comments.

FOR FURTHER INFORMATION CONTACT: Travis Hall, National Telecommunications and Information Administration, U.S. Department of Commerce, 1401 Constitution Avenue, NW, Room 4725, Washington, DC 20230; Telephone: (202) 482-3522; Email: thall@ntia.doc.gov. For media inquiries: Stephen Yusko, Office of Public Affairs, National Telecommunications and Information Administration, U.S. Department of Commerce, 1401 Constitution Avenue NW, Room 4897, Washington, DC 20230; telephone: (202) 482-7002; email: press@ntia.doc.gov.

SUPPLEMENTARY INFORMATION: In accordance with the Secure 5G and Beyond Act of 2020, Public Law 116-129, the National Telecommunications and Information Administration (NTIA), on behalf of the Executive Branch, is requesting comments to inform the development of an Implementation Plan for the National Strategy to Secure 5G. NTIA published a Notice and Request for Public Comments in the Federal Register on May 28, 2020. See NTIA, Notice, The National Strategy to Secure 5G Implementation Plan, Docket No. 200521-0144, 85 FR 32016 (May 28, 2020), available at: https://www.ntia.gov/files/ntia/publications/fr-secure-5g-implementation-plan-05282020.pdf. The original deadline for submission of comments was June 18, 2020. With today's Notice, NTIA extends the comment deadline by seven days until June 25, 2020. All other information in the May 28, 2020 Notice and Request for Public Comments remains unchanged.

Dated: June 11, 2020.
Kathy Smith,
Chief Counsel, National Telecommunications and Information Administration.

[FR Doc. 2020-12960 Filed 6-15-20; 8:45 am]

BILLING CODE 3510-60-P